FEDERAL ELECTION COMMISSION

11 CFR Part 111

[Notice 2009-24]

Amendment of Agency Procedures for Probable Cause Hearings

AGENCY: Federal Election Commission.

ACTION: Agency procedure; amendment.

SUMMARY: On November 19, 2007, the Federal Election Commission (“Commission”) published a procedural rule making permanent a program allowing respondents in enforcement proceedings under the Federal Election Campaign Act, to have a hearing before the Commission. The Commission is now amending its procedures to provide that the Commissioners may ask questions of the General Counsel and the Staff Director, and their staff, during probable cause hearings. This amendment will conform the procedures for enforcement hearing with the Commission's procedures for audit hearing published earlier this year.

DATES: The amended hearing procedures will be effective on October 28, 2009.

FOR FURTHER INFORMATION CONTACT: Mr. Mark D. Shonkwiler, Assistant General Counsel, 999 E Street, NW., Washington, DC 20463, (202) 694-1650 or (800) 424-9530.

SUPPLEMENTARY INFORMATION: The Federal Election Commission is amending its procedures to provide that Commissioners may ask questions of the General Counsel and the Staff Director, and their staff, during probable cause hearings.

I. Background

On October 25, 2007, the Commission adopted an agency procedure that made permanent a program that allows respondents in enforcement proceedings under the Federal Election Campaign Act (“FECA”), to have a hearing before the Commission prior to the Commission's consideration of the General Counsel's recommendation on whether to find probable cause to believe that a violation has occurred. See Procedural Rules for Probable Cause Hearings, 72 FR 64919 (Nov. 19, 2007) (“PC Hearing Procedures”). In PC Hearing Procedures, the Commission indicated that during probable cause hearings, “[r]espondents (or their counsel) will have the opportunity to present their arguments, and Commissioners, the General Counsel, and the Staff Director will have the opportunity to pose questions to the respondent, or respondent's counsel, if represented.” PC Hearing Procedures, 72 FR at 64920. The PC Hearing Procedures did not specifically address whether Commissioners could pose questions to the General Counsel and the Staff Director during probable cause hearings.

On June 25, 2009, based in part upon its experience with the probable cause hearing program, the Commission adopted a new agency procedure providing committees that are audited by the Commission, pursuant to the FECA, with the opportunity to have a hearing before the Commission prior to the Commission's adoption of a Final Audit Report. See Procedural Rules for Audit Hearings, 74 FR 33140 (July 10, 2009) (“Audit Hearing Procedures”). In Audit Hearing Procedures, the Commission indicated that during audit hearings, “Commissioners will have the opportunity to pose questions to the audited committee, and Commissioners may ask questions designed to elicit clarification from the Office of General Counsel or Office of the Staff Director.” Audit Hearing Procedures, 74 FR at 33142.

II. Amendment of Agency Procedures for Probable Cause Hearings

Consistent with the recently adopted agency procedures for audit hearings, the Commission is amending its procedures for probable cause hearings to specifically provide that Commissioners may ask questions during probable cause hearings designed to elicit clarification from the Office of General Counsel or Office of the Staff Director. The Commission is not making any other changes to its procedures for probable cause hearings.

Conclusion

This document amends an agency practice or procedure. This document does not constitute an agency regulation requiring notice of proposed rulemaking, opportunities for public comment, prior publication, and delay effective under 5 U.S.C. 553 of the Administrative Procedure Act (“APA”). The provisions of the Regulatory Flexibility Act, 5 U.S.C. 605(b), which apply when notice and comment are required by the APA or another statute, are not applicable.

On behalf of the Commission.
Dated: October 22, 2009.
Steven T. Walther,
Chairman, Federal Election Commission.

[FR Doc. E9-25900 Filed 10-27-09; 8:45 am]

BILLING CODE 6715-01-P